DEPARTMENT OF TRANSPORTATION

Federal Aviation Administration

Notice of Intent To Rule on Application 05-04-C-00-GLH To Impose and Use the Revenue From a Passenger Facility Charge (PFC) at Mid Delta Regional Airport, Greenville, MS

AGENCY: Federal Aviation Administration (FAA), DOT.

ACTION: Notice of intent to rule on application.

SUMMARY: The FAA proposes to rule and invites public comment on the application to, impose and use the revenue from a PFC at Mid Delta Regional Airport under the provisions of the 49 U.S.C. 40117 and part 158 of the Federal Aviation Regulations (14 CFR part 158).

DATES: Comments must be received on or before March 14, 2005.

ADDRESSES: Comments on this application may be mailed or delivered in triplicate to the FAA at the following address: 100 West Cross St., Suite B, Jackson, Mississippi 39208-2307.

In addition, one copy of any comments submitted to the FAA must be mailed or delivered to Mr. Frank Cooper, Airport Director of the City of Greenville at the following address: 166 Fifth Ave., Suite 300, Greenville, Mississippi 38703-9737.

Air carriers and foreign air carriers may submit copies of written comments previously provided to the City of Greenville under section 158.23 of part 158.

FOR FURTHER INFORMATION CONTACT: Patrick D. Vaught, Program Manager, 100 West Cross St., Suite B, Jackson, Mississippi 39208-2307, (601) 664-9900. The application may be reviewed in person at this same location.

SUPPLEMENTARY INFORMATION: The FAA proposes to rule and invites public comment on the application to impose an use the revenue from a PFC at Mid Delta Regional Airport under the provisions of the 49 U.S.C. 40117 and part 158 of the Federal Aviation Regulations (14 CFR part 158).

On February 2, 2005, the FAA determined that the application to impose and use the revenue from a PFC submitted by the City of Greenville was substantially complete within the requirements of section 158.25 of part 158. The FAA will approve or disapprove the application, in whole or in part, no later than May 11, 2005.

The following is a brief overview of the application.

Proposed charge effective date: April 1, 2005.

Proposed charge expiration date: October 1, 2007.

Level of the proposed PFC: $4.50.

Total estimated PFC revenue: $213,735.

Brief description of proposed project(s):

1. Rehabilitate and Convert Runway 9/27 to a Taxiway, Phase I.

2. Terminal Building Fire Escape Stairwell Project.

3. Terminal Area Drainage and Parking Lot Relocation.

4. Commerical Terminal Building Renovations, Phase 2.

5. Airfield Guidance Signage Improvement.

6. Airfield Pavement Marking Improvements.

7. Terminal Area Apron Lighting Replacement.

8. Airfield Electrical Vault Emergency Generator Replacement.

9. Preparation of PFC Application.

10. Partial Parallel Taxiway “B” Extension, Phase I.

11. Rehabilitate and Convert Runway 9/27 to a Taxiway, Phase II.

12. Commercial Terminal Building Renovations, Phase 3.

Class or classes of air carriers which the public agency has requested not be required to collect PFCs: ATCO—Air Taxi/Commercial Operators filing Form 1800-31.

In addition, any person may, upon request, inspect the application, notice and other documents germane to the application in person at the City of Greeville, Mississippi.

Issued in Jackson, Mississippi on February 2, 2005.
Keafur Grimes,
Acting Manager, Jackson Airports District Office.

[FR Doc. 05-2556 Filed 2-9-05; 8:45 am]

BILLING CODE 4910-13-M